INTERNATIONAL TRADE COMMISSION

[Investigation No. 731-TA-1224 (Final)]

Ferrosilicon From Russia; Termination of Investigation

AGENCY: United States International Trade Commission.

ACTION: Notice.

SUMMARY: On July 31, 2014, the Department of Commerce published notice in the Federal Register of a final determination of sales at not less than fair value in connection with the subject investigation concerning Russia (79 FR 44393). Accordingly, pursuant to section 207.40(a) of the Commission's Rules of Practice and Procedure (19 CFR § 207.40(a)), the antidumping duty investigation concerning ferrosilicon from Russia (Inv. No. 731-TA-1224 (Final)) is terminated.

DATES: Effective Date: July 31, 2014.

FOR FURTHER INFORMATION CONTACT: Christopher J. Cassise (202-708-5408), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS) at http://edis.usitc.gov.

Authority: This investigation is being terminated under authority of title VII of the Tariff Act of 1930; this notice is published pursuant to section 201.10 of the Commission's rules (19 CFR § 201.10).

By order of the Commission.
Issued: August 5, 2014.
Lisa R. Barton,
Secretary to the Commission.

[FR Doc. 2014-18806 Filed 8-7-14; 8:45 am]

BILLING CODE 7020-02-P